DEPARTMENT OF ENERGY

Federal Energy Regulatory Commission

[Docket No. RP01-49-000]

Algonquin LNG, Inc., Notice of Request for Exemption

October 18, 2000.

Take notice that on October 13, 2000, Algonquin LNG, Inc. (ALNG) submitted its filing in compliance with Order No. 587-L, Final Rule, issued on June 30, 2000, in Docket No. RM96-1-014, and the Commission's subsequent order granting clarification issued on September 28, 2000 in Docket No. RM96-1-016. The order granting clarification stated that “pipelines seeking an exemption from the imbalance trading requirement are required to file within 15 days of the order to show why they should not be required to implement imbalance trading.”

ALNG states that copies of the filing were mailed to all affected customers of ALNG and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed on or before October 25, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-27268 Filed 10-23-00; 8:45 am]

BILLING CODE 6717-01-M